DEPARTMENT OF COMMERCE

United States Patent and Trademark Office

[Docket No.: PTO-C-2013-0036]

Request of the United States Patent and Trademark Office for Public Comments: Voluntary Best Practices Study

AGENCY: United States Patent and Trademark Office, Commerce.

ACTION: Notice; request for public comments.

SUMMARY: Today, the Intellectual Property Enforcement Coordinator (IPEC) released the Administration's Joint Strategic Plan for Intellectual Property Enforcement. The Strategy notes that the Administration encourages the private sector to help reduce intellectual property infringement that occurs online—such as copyright piracy and trademark counterfeiting—by developing and implementing cooperative, voluntary initiatives that are practical, effective and consistent with due process, free speech, privacy of users and competition. The Administration encourages all participants in such voluntary initiatives to continue cooperating with all interested stakeholders to ensure that the initiatives are as effective and transparent as possible. (The 2013 Joint Strategic Plan for Intellectual Property Enforcement is available at http://www.whitehouse.gov/omb/intellectualproperty/ipec.)

Consistent with the Administration's policy of building a data-driven government, the Strategy stresses the importance of evaluating the effectiveness of the voluntary initiatives encouraged by the Administration. The Strategy also notes that the United States Patent and Trademark Office (USPTO) will solicit input from the public and from other parts of the U.S. Government to assist in the evaluation of whether such voluntary initiatives help to reduce infringement.

DATES: To be ensured of consideration, written comments must be received on or before July 22, 2013.

ADDRESSES: Written comments should be submitted electronically via http://www.regulations.gov, docket number PTO-2013-0036. Submissions should contain the term “Voluntary Best Practices Study.” The regulations.gov Web site is a Federal E-Government Web site that allows the public to find, review and submit comments on documents that have published in the Federal Register and that are open for comment. Submissions filed via the regulations.gov Web site will be available to the public for review and inspection. For this reason, please do not include in your comments information of a confidential nature, such as sensitive personal information or proprietary business information.

If you are unable to provide submissions to regulations.gov, you may contact the Office of Chief Economist at saurabh.vishnubhakat@uspto.gov using the subject line “Voluntary Best Practices Study” or (571) 272-6900 to arrange for an alternate method of transmission.

FOR FURTHER INFORMATION CONTACT: Saurabh Vishnubhakat, Office of Chief Economist at saurabh.vishnubhakat@uspto.gov, or (571) 272-6900.

SUPPLEMENTARY INFORMATION: The USPTO invites input from all interested parties on the processes, data metrics, and methodologies that could be used to assess the effectiveness of cooperative agreements and other voluntary initiatives to reduce infringement. The USPTO additionally welcomes input on the following questions:

1. How should “effectiveness” of cooperative voluntary initiatives be defined?

2. What type of data would be particularly useful for measuring effectiveness of voluntary initiatives aimed at reducing infringement and what would that data show?

3. If the data is not readily available, in what ways could it be obtained?

4. Are there particular impediments to measuring effectiveness, at this time or in general, and if so, what are they?

5. What mechanisms should be employed to assist in measuring the effectiveness of voluntary initiatives?

6. Is there existing data regarding efficacy of particular practices, processes or methodologies for voluntary initiatives, and if so, what is it and what does it show?

Dated: June 14, 2013.
Teresa Stanek Rea,
Acting Under Secretary of Commerce for Intellectual Property and Acting Director of the United States Patent and Trademark Office.

[FR Doc. 2013-14702 Filed 6-19-13; 8:45 am]

BILLING CODE 3510-16-P